DEPARTMENT OF LABOR

Employment and Training Administration

Comment Request for Information Collection for the Agricultural and Food Processing Clearance Order, ETA Form 790, Extension With Revisions, and the Agricultural and Food Processing Clearance Memorandum, ETA Form 795, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the extension of the expiration date (November 30, 2012) for ETA Forms 790 and 795 to November 30, 2015, and revisions made to ETA Form 790, with respect to the collection of information on the recruitment of agricultural workers. In situations where an adequate supply of workers does not exist locally, agricultural employers must use the Agricultural and Food Processing Clearance Order, ETA Form 790, to list the job opening with the State Workforce Agency (SWA) for recruiting temporary agricultural workers. The Agricultural and Food Processing Clearance Memorandum, ETA Form 795, is used by SWAs to extend job orders beyond their jurisdictions, give notice of action on a clearance order, request additional information, amend the order, report results, and accept or reject the extended job order. No changes were made to the ETA Form 795.

DATES: Written comments must be submitted to the office listed in the ADDRESSES section below on or before July 16, 2012.

ADDRESSES: Submit written comments to: Amy Young, Office of Workforce Investment, Room C-4510, Employment and Training Administration, Office of Workforce Investment, 200 Constitution Avenue NW., Room C-4510, Washington, DC 20210. Telephone number: 202-693-2758 (this is not a toll-free number). Individuals with hearing or speech impairments may access the telephone number above via TTY by calling the toll-free Federal Information Relay Service at 1-877-889-5627 (TTY/TDD). Fax: 202-693-3015. Email: nma@dol.gov. A copy of the proposed information collection request (ICR) can be obtained by sending an email to nma@dol.gov, subject line: ETA Form 790/795 ICR copy.

SUPPLEMENTARY INFORMATION:

I. Background

Currently, ETA is soliciting comments regarding the extension of the expiration date for the Agricultural and Food Processing Clearance Order Form (ETA Form 790) with changes and for the Agricultural and Food Processing Clearance Memorandum (ETA Form 795) without changes.

The Agricultural and Food Processing Clearance Order, ETA Form 790, is used by agricultural employers to list the job opening with the State Workforce Agencies (SWAs) for recruiting temporary agricultural workers in situations where an adequate supply of workers does not exist locally. The Agricultural and Food Processing Clearance Memorandum, ETA Form 795, is used by SWAs to extend job orders beyond their jurisdictions, give notice of action on a clearance order, request additional information, amend the order, report results, and accept or reject the extended job order.

Agricultural and Food Processing Clearance Order—ETA Form 790, With Changes. The changes made to ETA Form 790 are intended to streamline the information in the Form for specificity and clarification relating to the type of job offer information that is required from agricultural employers. These changes include adjustments to the box sizes, Spanish translations of information contained in the Form, rearranging and rewording information requested for specificity, and adding an Intrastate and Interstate Clearance Order Assurance statement for employers' signature.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions for ETA Form 790 and extension without revisions for ETA Form 795.

Title: Agricultural and Food Processing Clearance Order, ETA Form 790, and Agricultural and Food Processing Clearance Memorandum, ETA Form 795.

OMB Number: 1205-0134.

Affected Public: Agricultural employers, SWAs, agricultural workers.

Form(s): ETA 790 and ETA 795.

Total Annual Respondents: 9,356.

Annual Frequency: Occasional.

Total Annual Responses: 9,356 (8,356 responses for ETA 790 and 1,000 responses for ETA 795).

Average Time per Response: 60 minutes for ETA 790 and 15 minutes for ETA 795.

Estimated Total Annual Burden Hours: 8,606 hours.

Total Estimated Annual Burden Cost for Respondents: $289,592.

Data collection activity | Number of respondents | Frequency | Total responses | Average time per response (minutes) | Burden hours
ETA Form 790 | 8,356 | Occasionally | 8,356 | 60 | 8,356
ETA Form 795 | 1,000 | Occasionally | 1,000 | 15 | 250
Total | 9,356 | Occasionally | 9,356 | 75 | 8,606

The calculations are based on a normal biweekly work week, as most jobs are 8 hours a day for 10 days bi-weekly. There are 26 bi-weeks in a year. Therefore, 8 hours × 10 days × 26 bi-weeks = 2,080 hours worked in a year. Also the calculations are based on the average median salary of a state worker of $69,992 per year, and the estimated hours expended in completing and processing ETA Form 790 and ETA Form 795 respectively, providing the grand total of burden cost reflected above.

The burden is estimated to be 60 minutes for Form 790 and 15 minutes for Form 795:

ETA 790—8,356 multiplied by 60 minutes = 501,360 divided by 60 = 8,356;

ETA 795—1,000 multiplied by 15 minutes = 15,000 divided by 60 = 250;

The average median salary of a state works is $69,992 divided by 2,080 hours = $33.65 P/Hr.;

The annual hours of 8,606 multiplied by the hourly rate of $33.65 = $289,592 total annual burden cost.

The estimate above is based on the Bureau of Labor Statistics data provided in the Occupational Employment Statistics (OES) at www.bls.gov. In calculating the cost of completing and processing of the forms, the hourly rate of $33.65 per hour was used.

Comments submitted in response to this comment request will be summarized and/or included in the request for OMB approval of the ICR; they will also become a matter of public record.

Dated: Signed in Washington, DC, on this 8th day of May 2012.
Jane Oates,
Assistant Secretary, Employment and Training Administration.

[FR Doc. 2012-11628 Filed 5-14-12; 8:45 am]

BILLING CODE 4510-FN-P